DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; revision of a currently approved information collection; OMB No. 1660-0097; FEMA Form—None.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning Citizen Corps Affiliate Programs and Organizations Application to operate effectively and efficiently to regularize and coordinate activities between Citizen Corps and those groups active in its mission areas.

DATES: Comments must be submitted on or before June 8, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Penny Burke, Program Specialist, FEMA, NPD CPD, 202-786-9610 for additional information. You may contact the Records Management Branch for copies of the proposed collection of information at facsimile number (202) 646-3347 or e-mail address: FEMA-Information-Collections@dhs.gov.

SUPPLEMENTARY INFORMATION: Citizen Corps, an initiative launched by President George W. Bush in January 2002, is authorized by Executive Order 13254. Citizen Corps Affiliate Programs and Organizations offer communities resources for public education, outreach, and training; represent volunteers interested in helping make their community safer; or offer volunteer service opportunities to support first responders, disaster relief activities, and community safety efforts. Providing formal recognition to these programs and similar organizations by affiliating with Citizen Corps assists the program reach its goal of having every American participate in making their communities and families safer. In order to ensure that interested parties appropriately further the Citizen Corps mission, Citizen Corps requests supporting information from those programs and organizations seeking to become affiliates.

Collection of Information

Title: Citizen Corps Affiliate Programs and Organizations Application.

Type of Information Collection: Revision of a currently approved information collection.

OMB Number: 1660-0097.

Form Titles and Numbers: None.

Abstract: Citizen Corps Affiliate Programs and Organizations offer communities resources for public education, outreach, and training; represent volunteers interested in helping to make their community safer; or offer volunteer service opportunities to support first responders, disaster relief activities, and community safety efforts. Providing formal recognition to these programs and similar organizations through Affiliation with Citizen Corps, the program reaches a broader audience which can assist in reaching the goal of having every American participate in making their communities and families safer.

Affected Public: “Not-for-profit Institutions”.

Estimated Total Annual Burden Hours: 32 burden hours.

Table A.12—Estimated Annualized Burden Hours and Costs
Type of respondent | Form name/form number | No. of respondents | No. of responses per respondent | Avg. burden per response (in hours) | Total annual burden (in hours) | Avg. hourly wage rate | Total annual respondent cost
Not-for-Profit Institutions | Application Process | 8 | 1 | 4 | 32 | 15.00 | $480.00
Total |  | 8 |  |  | 32 |  | $480.00

Estimated Cost: The estimated annualized cost to respondents based on wage rate categories is $480.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-8059 Filed 4-8-09; 8:45 am]

BILLING CODE 9111-05-P